SMALL BUSINESS ADMINISTRATION

[PennantPark SBIC II, LP; License No. 02/02-0663]

Notice Seeking Exemption Under Section 312 of the Small Business Investment Act, Conflicts of Interest

Notice is hereby given that PennantPark SBIC II, LP, 590 Madison Avenue, 15th Floor, New York, NY 10022, a Federal Licensee under the Small Business Investment Act of 1958, as amended (“the Act”), in connection with the financing of a small concern, has sought an exemption under section 312 of the Act and section 107.730, Financings which Constitute Conflicts of Interest of the Small Business Administration (“SBA”) Rules and Regulations (13 CFR 107.730) PennantPark SBIC II, LP proposes to provide debt financing to Triad Manufacturing, Inc., 4700 Goodfellow Blvd., Saint Louis, MO 63120.

The financing is brought within the purview of § 107.730(a)(1) of the regulations because PennantPark Investment Corporation, an Associate of PennantPark SBIC II, LP, owns more than ten percent of Triad Manufacturing, Inc., and therefore this transaction is considered a financing of an Associate requiring prior SBA approval.

Notice is hereby given that any interested person may submit written comments on the transaction, within fifteen days of the date of this publication, to the Associate Administrator for Investment, U.S. Small Business Administration, 409 Third Street SW., Washington, DC 20416.

Dated: February 3, 2016.
Mark L. Walsh,
Associate Administrator for Office of Investment and Innovation.

[FR Doc. 2016-03005 Filed 2-12-16; 8:45 am]

BILLING CODE 8025-01-P